ENVIRONMENTAL PROTECTION AGENCY

40 CFR Parts 174 and 180

[EPA-HQ-OPP-2011-0082; FRL-8869-7]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before May 20, 2011.

ADDRESSES: Submit your comments, identified by docket identification (ID) number and the pesticide petition number (PP) for the petition of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at their Division: Biopesticides and Pollution Prevention Division (7511P) or Registration Division (7505P), Office of Pesticide Programs, Environmental Protection Agency, 1200 Pennsylvania Ave., NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions. Pursuant to 40 CFR 180.7(f), a summary of each of the petitions that are the subject of this document, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 0F7807. (EPA-HQ-OPP-2011-0179). BASF Corporation, 26 Davis Drive, P.O. Box 13528, Research Triangle Park, NC 27709-3528, request to establish tolerances in 40 CFR part 180 for residues of the fungicide metconazole, 5-[(4chlorophenyl)-methyl]-2,2-dimethyl-1-(1H-1,2,4-triazol-1-ylmethyl)cyclopentanol, measured as the sum of cis- and trans-isomers, in or on sugarcane, cane at 0.06 parts per million (ppm); and sugarcane, molasses at 0.08 ppm. Independently validated analytical methods have been submitted for analyzing parent metconazole residues with appropriate sensitivity in the raw crop and processed commodities for sugarcane for which tolerances are being requested. Contact: Tamue L. Gibson, (703) 305-9096, Registration Division (7505P), e-mail address: gibson.tamue@epa.gov.

2. PP 1F7825. (EPA-HQ-OPP-2006-0075). Gowan Company, 370 S. Main Street, Yuma, AZ 85364, request to establish tolerances in 40 CFR part 180 for residues of the insecticide fenazaquin, 4-tert-butylphenethyl quinazolin-4-yl ether, in or on fruit, pome group at 0.35 ppm; cucurbit group at 0.25 ppm; almond, hulls at 4.5 ppm; apple, wet pomace at 0.6 ppm; berry fruit group at 0.6 ppm; vegetable, fruiting group at 0.25 ppm; grape at 0.9 ppm; hop at 2.0 ppm; mint at 6.0 ppm; stone fruit group at 1.5 ppm; strawberry at 1.5 ppm; tree nut group at 0.02 ppm; alfalfa, forage at 4.5 ppm; alfalfa, hay at 8.0 ppm; avocado at 0.15 ppm; citrus fruit group at 0.3 ppm; citrus, oil at 2.5 ppm; cotton, seed (undelinted) at 0.5 ppm; cotton, gin byproducts at 12.0 ppm; bean, shelled dry subgroup at 0.2 ppm; bean, edible podded subgroup at 0.3 ppm; beans and pea, succulent subgroup at 0.02 ppm; corn, field, grain at 0.15 ppm; corn, field, forage at 9.0 ppm; corn, field, stover at 30 ppm; corn, field, aspirated grain fractions at 9.0 ppm; corn, field, refined oil at 0.6 ppm; corn, sweet at 0.04 ppm; and corn, sweet, forage at 9.0 ppm. An analytical method—liquid chromatography/tandem mass spectrometry (LC/MS/MS) with positive-ion electrospray ionization/MS/MS is available for enforcement purposes. The method had a limit of quantitation (LOQ) of 0.01 ppm and a limit of detection (LOD) of 0.003 ppm. Contact: Dan Peacock, Registration Division (7505P), (703) 3055407, e-mail address: peacock.dan@epa.gov.

3. PP 1F7836. (EPA-HQ-OPP-2011-0283). Dow AgroSciences, LLC, 9330 Zionsville Road, Indianapolis, IN, 46268, request to reestablish and make permanent tolerances in 40 CFR part 180 for the combined residues of the herbicide cyhalofop (cyhalofop-butyl, R-(+)-n-butyl-2-(4(4-cyano-2-fluorophenoxy)-phenoxy)propionate, plus cyhalofop acid, R-(+)-2-(4(4-cyano-2-fluorophenoxy)-phenoxy)propionic acid) and the di-acid metabolite, (2R)-4-[4-(1-carboxyethoxy)phenoxy]-3-fluorobenzoic acid, in or on rice, grain at 0.35 ppm; and rice, wild, grain at 0.35 ppm. An adequate analytical method is available for enforcement purposes; the method has been developed and validated to determine the residues of cyhalofop-butyl, cyhalofop (acid form) and the di-acid metabolite in rice grain, straw and processed products. The method was based on capillary gas chromatography (GC) with mass selective detection. Level of detection was 0.005 ppm or 0.006 ppm depending on the analyte and matrix. Contact: James Stone, Registration Division (7505P), (703) 305-7391, e-mail address: stone.james@epa.gov.

Amended Tolerance

PP 1F7840. (EPA-HQ-OPP-2011-0307). E.I. du Pont de Nemours & Company, 1007 Market Street, Wilmington, DE 19898, request to amend 40 CFR 180.364(a) to establish a tolerance for the combined residues of the herbicide glyphosate, N (phosphonomethyl)glycine, and its metabolite, N-acetyl-glyphosate (expressed as glyphosate) on canola, seed. An analytical method was developed, and validated, for the determination of glyphosate and degradate residues in transgenic crop and crop fraction matrices. The method was validated at 0.050 milligrams/kilograms (mg/kg) and 0.50 mg/kg or higher fortification level using a LC/MS/MS system operating with an electrospray interface (ESI) in positive ion mode detection. An analytical method was developed, and validated, for the determination of glyphosate, N-acetylglyphosate, AMPA, and N-acetyl AMPA in animal matrices including milk, eggs, muscle, kidney, liver, and fat. The method was validated at the respective LOQ and 10×LOQ level for each matrix using a LC/MS/MS system operating with an ESI in positive or negative ion mode detection. Contact: Erik Kraft, Registration Division (7505P), (703) 308-9358, e-mail address: kraft.erik@epa.gov.

New Tolerance Exemptions

1. PP 0E7814. (EPA-HQ-OPP-2011-0276). Interregional Research Project Number 4 (IR-4), 500 College Road East, Suite 201 W., Princeton, NJ 08540 on behalf of Arkion Life Sciences, 551 Mews Drive, Suite J, New Castle, DE 19720, request to establish an exemption from the requirement of tolerances for residues of the biochemical pesticide 9,10 anthraquinone, in or on corn, field, seed; and corn, sweet, seed. An analytical method is available. Sample analysis for residues of anthraquinone, 1-hydroxyanthraquinone, and 2-hydroxyanthraquinone was conducted by Cornell Analytical Laboratories, Geneva, NY. The procedure used was “Residue Analysis of Anthraquinone on Corn (field) including Kernels plus Cob with Husks Removed (K+CWHR), Forage, Grain, and Stover by LC/MS Detection”, Version #1. Contact: Chris Pfeifer, Biopesticides and Pollution Prevention Division (7511P), (703) 308-0031, e-mail address: pfeifer.chris@epa.gov.

2. PP 1E7834. (EPA-HQ-OPP-2011-0327). Akzo Nobel Surface Chemistry, LLC, 909 Mueller Avenue, Chattanooga, TN 37406, request to establish an exemption from the requirement of a tolerance for 2-propenoic acid, 2-methyl-, phenylmethyl ester, polymer with 2-propenoic acid and sodium 2-methyl-2-[(1-oxo-2-propen-1-yl)amino]-1-propanesulfonate (1:1), peroxydisulfuric acid ([HO)S(O)2]202) sodium salt (1:2)initiated (CAS Reg. No. 1246766-57-3) when used as a pesticide inert ingredient as a dispersant in pesticide formulations under 40 CFR 180.960 in or on all raw agricultural commodities. An analytical method is generally not required when all criteria for polymer exemption per 40 CFR 723.250 are met. In addition, Akzo Nobel is petitioning for an exemption from the requirement of a tolerance without any numerical limitations. Contact: Mark Dow, Registration Division (7505P), (703) 305-5533, e-mail address: dow.mark@epa.gov.

3. PP 0F7729. (EPA-HQ-OPP-2010-0096). DSM Food Specialties B.V., Alexander Fleminglaan 1, 2613 AX Delft, The Netherlands, c/o Keller and Heckman, LLP, 1001 G. Street, NW., Washington, DC 20001 request to establish an exemption from the requirement of a tolerance for residues of the biochemical pesticide natamycin, (6,11,28-Trioxatricyclo[22.3.1.0⁵,⁷]octacosa-8,14,16,18,20-pentaene-25-carboxylic acid, 22-[(3-amino-3,6-dideoxy-β-D-mannopyranosyl)oxy]-1,3,26-trihydroxy-12-methyl-10oxo-, (1R,3S,5R,7R,8E,12R,14E,16E,18E, 20E,22R,24S,25R,26S) (CAS Reg. No. 7681-93-8), in or on mushrooms. An analytical method is available to EPA for the detection and measurement of the pesticide residues. Contact: Cheryl Greene, Biopesticides and Pollution Prevention Division (7511P), (703) 308-0352, e-mail address: greene.cheryl@epa.gov.

Amended Tolerance Exemption

PP 1E7830. (EPA-HQ-OPP-2007-0158). Interregional Research Project Number 4 (IR-4), Rutgers University, 500 College Road East, Suite 201W, Princeton, NJ 08540 on behalf of the Arizona Cotton Research and Protection Council, 3721 East Wier Avenue, Phoenix, AZ 85040-2933, request to amend 40 CFR 180.1206 to establish a permanent exemption from the requirement of a tolerance for Aspergillus flavus AF36 on pistachio. The petitioner believes no analytical method is needed because an exemption from the requirement of a tolerance for residues of the microbial pesticide A. flavus AF36 in/on pistachios, without any numerical limitation is being requested for pistachios. Contact: Shanaz Bacchus, Biopesticides and Pollution Prevention Division (7511P), (703) 308-8097, e-mail address: bacchus.shanaz@epa.gov.

List of Subjects

Environmental protection, Agricultural commodities, Feed additives, Food additives, Pesticides and pests, Reporting and recordkeeping requirements.

Dated: April 11, 2011.
Daniel J. Rosenblatt,
Acting Director, Registration Division, Office of Pesticide Programs.

[FR Doc. 2011-9447 Filed 4-19-11; 8:45 am]

BILLING CODE 6560-50-P